DEPARTMENT OF THE INTERIOR

Bureau of Land Management

43 CFR Parts 3160 and 3170

[15X.LLWO300000.L13100000.NB0000]

RIN 1004-AE15, RIN 1004-AE16, RIN 1004-AE17

Onshore Oil and Gas Operations; Federal and Indian Oil and Gas Leases; Site Security; Measurement of Oil; and Measurement of Gas

AGENCY: Bureau of Land Management, Interior.

ACTION: Proposed rules; reopening and extension of public comment periods.

SUMMARY: In July, September, and October, 2015, the Bureau of Land Management (BLM) published three separate proposed rules in the Federal Register that would update and replace its existing oil and gas rules and standards for site security (Onshore Oil and Gas Order (Order) No. 3), oil measurement (Order No. 4), and gas measurement (Order No. 5) at onshore oil and gas facilities located on Federal and Indian (except Osage Tribe) lands. This document reopens the comment period for the proposed rule pertaining to site security (Order 3) and extends the comment period for the proposed rule pertaining to oil measurement (Order 4). It also announces the times and locations of three public meetings to take public input on the proposed rules.

DATES: The comment period for the proposed rules published July 13, 2015 (80 FR 40768), September 11, 2015 (80 FR 54760), and October 13, 2015 (80 FR 61646) are extended. Send your comments on the three proposed rules to the BLM on or before December 14, 2015. The BLM need not consider, or include in the administrative record for the final rule, comments that it receives after the close of the comment period or comments delivered to an address other than those listed below (see ADDRESSES). The BLM intends to hold three public meetings on December 1, 3, and 8, 2015, to accept public comment on the proposed rules. For the times and locations of the meetings, please see the SUPPLEMENTARY INFORMATION section below.

ADDRESSES: Mail: U.S. Department of the Interior, Director (630), Bureau of Land Management, Mail Stop 2134 LM, 1849 C St. NW., Washington, DC 20240, Attention: 1004-AE15, 1004-AE16, or 1004-AE17. Personal or messenger delivery: Bureau of Land Management, 20 M Street SE., Room 2134 LM, Attention: Regulatory Affairs, Washington, DC 20003. Federal eRulemaking Portal: http://www.regulations.gov. Follow the instructions at this Web site.

FOR FURTHER INFORMATION CONTACT: Michael Wade, BLM Colorado State Office, at 303-239-3737 (Order 3); Mike McLaren, BLM Pinedale (WY) Field Office, at 307-367-5389 (Order 4); or Richard Estabrook, BLM Ukiah (CA) Field Office, at 707-468-4052 (Order 5). For questions relating to regulatory process issues, please contact Faith Bremner, BLM Washington Office, at 202-912-7441 (all three Orders). Persons who use a telecommunications device for the deaf (TDD) may call the Federal Information Relay Service (FIRS) at 1-800-877-8339 to contact the above individuals during normal business hours. FIRS is available 24 hours a day, 7 days a week to leave a message or question for the above individuals. You will receive a reply during normal business hours.

SUPPLEMENTARY INFORMATION:

Background

On July 13, 2015, the BLM published in the Federal Register “Onshore Oil and Gas Operations; Federal and Indian Oil and Gas Leases; Site Security; Proposed Rule” (80 FR 40768). That proposed rule would update and replace the requirements found in Onshore Oil and Gas Order No. 3, Site Security, with new regulations that would be codified in the Code of Federal Regulations (CFR) through the amendment of 43 CFR part 3160 and the addition of two new subparts—43 CFR subparts 3170 and 3173. The proposed rule to replace Onshore Order 3 initially had a 60-day public comment period that closed on September 11, 2015, but that comment period was extended until October 9, 2015 (80 FR 54760). The proposed rule includes provisions intended to ensure that oil and gas produced from Federal and Indian oil and gas leases are properly and securely handled, so as to ensure accurate measurement, production accountability, and royalty payments, and to prevent theft and loss.

On September 30, 2015, the BLM published in the Federal Register “Onshore Oil and Gas Operations; Federal and Indian Oil and Gas Leases; Measurement of Oil; Proposed Rule” (80 FR 58952). This proposed rule would update and replace the existing requirements of Order 4, Measurement of Oil, with new regulations that would be codified in the CFR through the amendment of 43 CFR part 3160 and the addition of a new subpart—43 CFR subpart 3174. It would strengthen the BLM's policies governing production accountability by updating its minimum standards for oil measurement to reflect changes in technology and industry practices. The comment period on the proposed rule to replace Order 4 currently expires on November 30, 2015.

On October 13, 2015, the BLM published in the Federal Register “Onshore Oil and Gas Operations; Federal and Indian Oil and Gas Leases; Measurement of Gas; Proposed Rule” (80 FR 61646). This proposed rule would update and replace the existing requirements of Order 5, Measurement of Gas, with new regulations that would be codified in the CFR through the amendment of 43 CFR part 3160 and the addition of a new subpart—43 CFR subpart 3175. This proposed rule would strengthen the BLM's policies governing production accountability by updating its minimum standards for gas measurement to reflect changes in technology and industry practices. The comment period on the proposed rule to replace Order 5 expires on December 14, 2015.

Since publication of these proposals, the BLM has received a number of requests that the comment periods for these proposed rules be reopened or extended, as appropriate, in order to provide additional opportunities for the public to provide input. In response to these requests, the BLM is: (1) Reopening the comment period on Order 3 from the date of publication of this Notice until December 14, 2015, and (2) Extending the comment period on Order 4 until December 14, 2015. As result, the comment periods on all three Proposed Rules will close on December 14, 2015.

Public Outreach Meeting

The BLM will also be holding three public meetings on the proposed rules to replace Orders 3, 4, and 5. Those meetings will be held at the following dates, times, and locations:

• Date/Time: December 1, 2015/1:00 p.m.

Location: Double Tree by Hilton, 501 Camino Del Rio, Durango, CO 81301, (970) 259-6580

• Date/Time: December 3, 2015/1:00 p.m.

Location: Renaissance Oklahoma City Convention Center Hotel, 10 N Broadway Avenue, Oklahoma City, OK 73102, (405) 228-8000

• Date/Time: December 8, 2015/1:00 p.m.

Location: Astoria Hotel and Event Center, 363 15th St W., Dickinson, ND 58601, (701) 456-5000

Additional information about the meetings can be found on the BLM's Web site.

Public Comment Procedures

If you wish to comment, you may submit your comments by any one of several methods:

• Mail: You may mail comments to U.S. Department of the Interior, Director (630), Bureau of Land Management, Mail Stop 2134LM, 1849 C Street NW., Washington, DC 20240, Attention: 1004-AE15 (for Site Security), 1004-AE16 (for Oil Measurement), or 1004-AE17 (for Gas Measurement).

• Personal or messenger delivery: Bureau of Land Management, 20 M Street SE., Room 2134 LM, Attention: Regulatory Affairs, Washington, DC 20003.

• Federal eRulemaking Portal: http://www.regulations.gov. Follow the instructions at this Web site.

Please make your comments as specific as possible by confining them to issues directly related to the content of the proposed rule, and explain the basis for your comments. The comments and recommendations that will be most useful and likely to influence agency decisions are:

1. Those supported by quantitative information or studies; and

2. Those that include citations to, and analyses of, the applicable laws and regulations.

The BLM is not obligated to consider or include in the Administrative Record for the rule comments received after the close of the comment period (see DATES) or comments delivered to an address other than those listed above (see ADDRESSES). Comments will be available for public review at the address listed under ADDRESSES during regular hours (7:45 a.m. to 4:15 p.m.), Monday through Friday, except holidays.

Before including your address, telephone number, email address, or other personal identifying information in your comment, be advised that your entire comment—including your personal identifying information—may be made publicly available at any time. While you can ask in your comment to withhold from public review your personal identifying information, we cannot guarantee that we will be able to do so.

Amanda C. Leiter,
Deputy Assistant Secretary for Land and Minerals Management.

[FR Doc. 2015-29820 Filed 11-20-15; 8:45 am]

BILLING CODE 4310-84-P